DEPARTMENT OF TRANSPORTATION

Pipeline and Hazardous Materials Safety Administration

Hazardous Materials: Notice of Applications for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 25, 2016.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on October 13, 2016.
Donald Burger,
Chief, Office of the Special Permits and Approvals.

Application No. | Docket No. | Applicant | Regulation(s) affected | Nature of the special permits thereof
SPECIAL PERMITS DATA
20333-N |  | Antonov Design Bureau | 173.27(b)(2), 175.30(a)(1), 172.101(j), 172.203(a), 172.301(c) | To authorize the transportation in commerce of certain hazardous materials forbidden aboard cargo aircraft only. (mode 4)
20337-N |  | Textron Systems Corporation | 173.27(b)(2), 173.27(b)(3), 175.30(a)(1), 172.101(j), 172.204(c)(3) | To authorize the transportation in commerce of Class 1 materials for- bidden by cargo-only aircraft via air transportation. (mode 4)
20339-N |  | Atlas Air, Inc | 173.27(b)(2), 173.27(b)(3), 175.30(a)(1), 172.101(j), 172.204(c)(3) | To authorize the transportation in commerce of certain hazardous materials forbidden aboard cargo aircraft only. (mode 4)
20340-N |  | Vinci Technologies | 173.301(f), 173.302(a), 173.304(a), 173.201, 178.37(f) | To authorize the transportation in commerce of certain hazardous materials in non-DOT specification cylinders. (modes 1, 2, 3)
20342-N |  | O M P Racing Spa | 173.309(c)(3) | To authorize the transportation in commerce of fire extinguishers with a burst pressure lower than that required in the HMR. (mode 1)
20343-N |  | Dr. Ing H.C.F. Porsche AG | 172.101 Column (9B) | To authorize the transportation in commerce of lithiumion batteries that exceed 35 kg by cargo-only aircraft. (mode 4)
20347-N |  | National Air Cargo Group, Inc | 173.27(b)(2), 173.27(b)(3), 175.30(a), 175.30(a)(1), 172.101, 172.204, 172.204(c)(3) | To authorize the transportation in commerce of certain explosives exceeding the quantity limits authorize for cargo-only aircraft. (mode 4)
20348-N |  | Wrightspeed, Inc | 173.185(a) | To authorize the transportation in commerce of proto-type lithiumion batteries by cargo-only aircraft. (mode 4)
20350-N |  | Strato, Inc | 179.7(b)(8) | To authorize the manufacture, mark, sell, and use of tank car service equipment manufactured under a previously valid Class F registration. (mode 2)
20352-N |  | Schlumberger Technology Corp | 173.301(f), 173.304(a), 173.302(a), 173.304(d), 173.201(c), 173.202(c), 173.203(c) | To authorize the manufacture, mark, sale, and use of non-DOT specification cylinders for the transportation of certain hazardous materials. (modes 1, 3)
20353-N |  | Accuray Incorporated | 173.302(a), 175.3, 172.400, 172.301(c) | To authorize the transportation in commerce of Xenon gas in a non-DOT specification container (detector), either shipped alone or as an integral part of a gantry assembly. (modes 1, 2, 3)
20355-N |  | Enersys Advanced Systems, Inc | 173.185(a)(1) | To authorize the transportation in commerce of lithium batteries that are of a type not proven to meet the requirements of the UN Manual of Tests and Criteria. (modes 1,4)

[FR Doc. 2016-25538 Filed 10-24-16; 8:45 am]

BILLING CODE 4910-60-M